ENVIRONMENTAL PROTECTION AGENCY

[FRL-7968-9]

Science Advisory Board Staff Office; Notification of an Upcoming Science Advisory Board Meeting

AGENCY: Environmental Protection Agency (EPA).

ACTION: Notice.

SUMMARY: The EPA Science Advisory Board (SAB) Staff Office announces a public face-to-face meeting of the chartered SAB. The Board will (1) be briefed on strategic science issues facing EPA, (2) continue its planning for SAB activities, and (3) it may review and approve of one or more draft SAB Committee reports.

DATES: September 28, 2005. A public meeting of the Board will be held from 9 a.m. to 5 p.m. (Eastern Time) on September 28, 2005.

ADDRESSES: The September 28, 2005 meeting of the Board will be held in the U.S. EPA Science Advisory Board Conference Center, Third Floor, 1025 F Street, NW., Washington, DC 20004.

FOR FURTHER INFORMATION CONTACT: Members of the public who wish to obtain further information regarding this meeting, or the SAB may contact Mr. Thomas O. Miller, Designated Federal Officer (DFO), U.S. EPA Science Advisory Board via phone (202-343-9982) or e-mail at miller.tom@epa.gov. The SAB Mailing address is: U.S. EPA, Science Advisory Board (1400F), 1200 Pennsylvania Avenue, NW., Washington, DC 20460. General information about the SAB, as well as any updates concerning the meeting announced in this notice—including any specific draft report(s) to be reviewed, will be posted on the SAB Web site at: http://www.epa.gov/sab.

SUPPLEMENTARY INFORMATION: Background: (a) EPA Science Issues and SAB Planning—The SAB will receive briefings from senior Agency scientists on EPA's strategic science priorities. This will allow the Board to discuss with EPA, the Agency's response to the Board's advisory on the FY 2006 science budget and prepare the Board to plan its advisory interaction with EPA on the FY 2007 science budget. At this meeting, the Board will monitor its own activities in support of EPA's science programs for 2005 and continue its planning of its FY 2006 program.

(b) Review of SAB Committee Draft Reports: The Board may review one or more draft SAB panel or committee reports at this meeting. Information on any draft reports to be reviewed, as well as the draft reports, will be on the SAB Web site at: http://www.epa.gov/sab/drrep.htm prior to the meeting.

Availability of Review Material for the Board Meeting: A final roster of the Board, the meeting agenda, and any appropriate background documents in support of this meeting will be posted on the SAB Staff Office Web site (http://www.epa.gov/sab) prior to the meeting.

Procedures for Providing Public Comment: The Science Advisory Board Staff Office accepts written public comments, and will accommodate oral public comments whenever possible, on issues before the SAB. Requests to provide oral comments at the September 28, 2005 meeting must be made in writing (e-mail, fax or mail) and received by Mr. Miller no later than September 23, 2005. Oral Comments: Each individual or group requesting an oral presentation at this face-to-face meeting will be limited to no more than ten minutes per speaker or organization. Speakers should bring at least 75 copies of their comments and presentation slides for distribution to the participants and the public at this meeting. Written Comments: Written comments should be received in the SAB staff office so that the comments may be made available to the Board for their consideration. Comments should be supplied to the DFO at the address noted above in the following formats: one hard copy with original signature, and one electronic copy via e-mail [acceptable file format: Adobe Acrobat, WordPerfect, Word, or Rich Text files (in IBM-PC/Windows 2000/98 format)].

Meeting Accommodations: Individuals requiring special accommodation at this meeting, including wheelchair access to the conference room, should contact Mr. Miller at the phone number or e-mail address noted above at least five business days prior to the meeting so that appropriate arrangements can be made.

Dated: September 7, 2005.
Anthony Maciorowski,
Associate Director for Science, EPA Science Advisory Board Staff Office.

[FR Doc. 05-18240 Filed 9-13-05; 8:45 am]

BILLING CODE 6560-50-P